DEPARTMENT OF HOMELAND SECURITY

Coast Guard

33 CFR Parts 101 and 105

[Docket No. USCG-2013-1087]

Seafarers' Access to Maritime Facilities

AGENCY: Coast Guard, DHS.

ACTION: Notice to reopen public comment period.

SUMMARY: The Coast Guard is reopening the public comment period for the notice of proposed rulemaking (NPRM) entitled “Seafarers' Access to Maritime Facilities,” which published in the Federal Register on December 29, 2014. The NPRM proposed to require each owner or operator of a facility regulated by the Coast Guard to implement a system that provides seafarers and other individuals with access between vessels moored at the facility and the facility gate, in a timely manner and at no cost to the seafarer or other individual. As originally published, the comment period for the NPRM closed on February 27, 2015. Several members of the public have requested additional time to comment on the NPRM, citing various timing constraints. In order to provide interested members of the public an additional opportunity to submit comments on the NPRM, the Coast Guard is reopening the public comment period for 60 days. We are particularly interested in comments on our estimate that there is a 10.3 percent non-compliance rate of facilities with respect to providing seafarers' access. In addition to comments on this topic, we will consider all public comments on the NPRM received during the reopened comment period. We request that you not re-submit comments already in the docket.

DATES: Comments and related material must either be submitted to our online docket via http://www.regulations.gov on or before July 1, 2015 or reach the Docket Management Facility by that date.

ADDRESSES: You may submit comments identified by docket number USCG-2013-1087 using any one of the following methods:

(1) Federal eRulemaking Portal: http://www.regulations.gov;

(2) Fax: 202-493-2251;

(3) Mail: Docket Management Facility (M-30), U.S. Department of Transportation, West Building Ground Floor, Room W12-140, 1200 New Jersey Avenue SE., Washington, DC 20590-0001; or

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions about this notice, call or email LCDR Kevin McDonald, Cargo and Facilities Division (CG-FAC-2), Coast Guard; telephone 202-372-1168; email Kevin.J.McDonald2@uscg.mil. If you have questions on viewing material in the docket, call Ms. Cheryl Collins, Program Manager, Docket Operations, telephone 202-366-9826.

SUPPLEMENTARY INFORMATION:

Public Participation and Request for Comments

We encourage you to participate in this rulemaking by submitting comments and related materials. All comments received will be posted, without change, to http://www.regulations.gov and will include any personal information you have provided.

Submitting comments: If you submit a comment, please include the docket number for this rulemaking (USCG-2013-1087) and provide a reason for each suggestion or recommendation. You may submit your comments and material online or by fax, mail or hand delivery, but please use only one of these means. We recommend that you include your name and a mailing address, an email address, or a telephone number in the body of your document so that we can contact you if we have questions regarding your submission.

To submit your comment online, go to http://www.regulations.gov and use “USCG-2013-1087” as your search term. Locate the docket for this rulemaking and follow the instructions on that Web site for submitting public comments. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing comments and documents: To view comments, as well as documents mentioned in the NPRM as being available in the docket, go to http://www.regulations.gov and use “USCG-2013-1087” as your search term. Locate the docket for this rulemaking and follow the instructions on that Web site for viewing comments and documents in the docket. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008, issue of the Federal Register (73 FR 3316).

Regulatory History and Information

On December 29, 2014, the Coast Guard published an NPRM entitled “Seafarers' Access to Maritime Facilities” (79 FR 77981). The NPRM proposed to require each owner or operator of a facility regulated by the Coast Guard to implement a system that provides seafarers and other individuals with access between vessels moored at the facility and the facility gate in a timely manner and at no cost to the seafarer or other individual. As originally published, the comment period for the NPRM expired on February 27, 2015. To date, the Coast Guard has received approximately 150 public submissions, which are available for viewing in the online docket for this rulemaking.

Additionally, on January 23, 2015, the Coast Guard held a public meeting in Washington, DC, to solicit comments on the proposals in the NPRM. Approximately 11 parties provided oral comments at the meeting, and more than 500 parties viewed the meeting online via live video feed. A video recording of the public meeting is available for viewing at https://www.youtube.com/embed/1hAjrvUNylY?rel=0.

Background and Purpose

Since publication of the NPRM, the Coast Guard has received several written and oral comments requesting an extension of the public comment period. Commenters cited different reasons for the request to extend the public comment period, including the timing of the publication, a delay in submitted comments posting to the electronic docket, and the complexity of the NPRM's proposals and economic analysis. The commenters requesting an extended public comment period either requested an additional 60 days, or they did not specify a number of additional days. In response to these requests, the Coast Guard is reopening the public comment period for an additional 60 days. The Coast Guard will consider all of the public comments posted to the docket, including those already submitted. We request that you not re-submit comments that are already in the docket. You may, however, comment on other documents and comments that are in the docket. If you choose to do so, please ensure you identify which document or comment you are responding to.

Request for Comments

We encourage your participation by submitting your comments to the Docket Management Facility as specified in the ADDRESSES section above. Please refer to the NPRM for a detailed discussion of the proposals, as well as the list of topics included in the request for comments on specific issues (79 FR 77981, 77987).

We also encourage you to view the NPRM's accompanying Preliminary Regulatory Analysis and Initial Regulatory Flexibility Analysis (Regulatory Analysis), available for viewing in the docket. To view the Regulatory Analysis, go to http://www.regulations.gov and use “USCG-2013-1087” as your search term. Once you locate and open the docket folder for this rulemaking, click on “View all documents and comments in this Docket.” From there check the box, “Supporting & Related Material,” on the left side of the screen. This will display a link to the Regulatory Analysis. We are particularly interested in comments from the public on our estimate that there is a 10.3 percent non-compliance rate of facilities with respect to providing seafarers' access.¹ Some commenters have suggested that the 10.3 percent non-compliance rate estimate is too low. We are interested in learning if there is a better estimate or if there are other sources of information for obtaining the non-compliance rate. In addition to comments on this topic, we will consider all public comments on the NPRM received during the reopened comment period.

¹ See NPRM (79 FR 77987), Item 5 from our list of specific requests for comments.

Authority

We issue this notice under the authority of 5 U.S.C. 553, 46 U.S.C. 70103 (Note), 46 U.S.C. 70124, 33 U.S.C. 1226, 33 U.S.C. 1231, and Department of Homeland Security Delegation 0710.1(II)(70, 71, and 97).

Dated: May 20, 2015.
J.C. Burton,
Captain, U.S. Coast Guard, Director of Inspections & Compliance.

[FR Doc. 2015-12657 Filed 5-26-15; 8:45 am]

BILLING CODE 9110-04-P